DEPARTMENT OF TRANSPORTATION

Federal Aviation Administration

Receipt of Noise Compatibility Program Update and Request for Review for Modesto City-County Airport, Modesto, CA

AGENCY: Federal Aviation Administration, DOT.

ACTION: Notice, correction.

SUMMARY: The Federal Aviation Administration (FAA) published a notice in the Federal Register on December 18, 2009. (74 FR 67305). This action corrects an error in a date in that document. The notice announced that the FAA is reviewing a proposed noise compatibility program update that was submitted for Modesto City-County Airport under the provisions of 49 U.S.C. 47501 et seq. (the Aviation Safety and Noise Abatement Act) and 14 CFR Part 150 by City of Modesto.

FOR FURTHER INFORMATION CONTACT: Camille Garibaldi, Telephone number: (650) 876-2778, extension 613.

Correction

In Notice document (Federal Register Doc. E9-30186) published on December 18, 2009 (74 FR 67305) make the following correction:

On page 67305 in the second column, in the fourth line of the third paragraph under the heading SUPPLEMENTARY INFORMATION; the date December 6, 2009, is corrected to read, December 9, 2009.

Issued in Hawthorne, California on December 29, 2009.
Mark A. McClardy,
Manager, Airports Division, AWP-600, Western-Pacific Region.

[FR Doc. 2010-114 Filed 1-8-10; 8:45 am]

BILLING CODE 4910-13-M